DEPARTMENT OF ENERGY

Federal Energy Regulatory Commission

[Docket No. RP17-197-000]

Dominion Cove Point LNG, LP; Notice of Technical Conference

The Commission's December 30, 2016 order in the above-captioned proceeding ¹ directed that a technical conference be held to address the effect of the tariff changes proposed by Dominion Cove Point LNG, LP in its November 23, 2016 filing in this docket.

¹ Dominion Cove Point LNG, LP, 157 FERC ¶ 61,249 (2016).

Take notice that a technical conference will be held on Thursday February 2, 2017 at 10:00 a.m., in Hearing Room #2 at the offices of the Federal Energy Regulatory Commission, 888 First Street NE., Washington, DC 20426.

FERC conferences are accessible under section 508 of the Rehabilitation Act of 1973. For accessibility accommodations please send an email to accessibility@ferc.gov or call toll free (866) 208-3372 (voice) or (202) 502-8659 (TTY), or send a fax to (202) 208-2106 with the required accommodations.

All interested persons and staff are permitted to attend. For further information please contact Tehseen Rana at (202) 502-8639 or tehseen.rana@ferc.gov.

Dated: January 11, 2017.
Kimberly D. Bose,
Secretary.

[FR Doc. 2017-00997 Filed 1-17-17; 8:45 am]

BILLING CODE 6717-01-P